DEPARTMENT OF DEFENSE

Department of the Army

Privacy Act of 1974; System of Records

AGENCY: Department of the Army, DoD.

ACTION: Notice to add and delete systems of records.

SUMMARY: The Department of the Army is proposing to add a system of records notice to its existing inventory of record systems subject to the Privacy Act of 1974, (5 U.S.C. 552a), as amended. The proposed new system of records is a product of consolidating two similar existing Army Inspector General systems of records (A0020-1a SAIG and A0020-1b SAIG). As a result of the consolidation, A0020-1a SAIG and A0020-1b SAIG are being deleted.

DATES: This proposed action will be effective without further notice on February 11, 2002 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on December 28, 2001, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: January 4, 2002.
L.M. Bynum,
Alternate OSD Federal Register Liaison Officer, Department of Defense.

Deletions

A0020-1a SAIG

System name:

Inspector General Investigation Files (December 8, 2000, 65 FR 77008).

Reason:

Records are now covered under the Army system of records A0020-1 SAIG, entitled ‘Inspector General Records’.

* * * * *

A0020-1b SAIG

System name:

Inspector General Action Request/Assistance Files (August 3, 1993, 58 FR 41250).

Reason:

Records are now covered under the Army system of records A0020-1 SAIG, entitled ‘Inspector General Records’.

* * * * *

A0020-1 SAIG

System name:

Inspector General Records

System Location:

Office of the Inspector General, U.S. Army Inspector General Agency, Department of the Army, 1700 Army Pentagon, Washington, DC 20320-1700.

Categories of individuals covered by the system:

Any individual, military or civilian (including contractors), who have made allegations or against whom allegations of wrongdoing/misconduct have been made related to, violations of laws, rules, or regulations or mismanagement, gross waste of funds, abuse of authority, or whistleblower reprisals that have reviewed or upon which inquiries or investigation have been conducted.

Categories of records in the system:

Investigative case files containing investigative reports, such as preliminary inquiries, preliminary analyses, reports of investigation (ROIs), administrative documents, and computer indices. ROIs include the authority for the inquiry/investigation, matters investigated, narrative, summaries/excerpts of testimony given by witnesses, and appended exhibits that may include supporting documents, documentary evidence, summaries of interviews or transcripts of verbatim testimony, or other investigative information from outside sources.

Computerized indices contain the names/subjects of the inquiry/investigation, opening and closing dates, function codes reflecting the type of allegations and codes designating their status and determination, brief synopsis of allegations and their disposition, case notes, locations of the inquiries/investigations and the assigned case numbers.

Whistleblower Reprisal, Defense Hotline Complaint and Inspector General Action Request (IGAR) case files, administrative documents; and computer indices: Whistleblower Reprisal case files contain allegations accepted and investigated or decline through preliminary analysis by Army Inspectors General or referred by the DoD Inspector General (DODIG) for action.

Defense Hotline Complaint files contain allegations/complaints referred by the DODIG for inquiry/investigation, Hotline Completion Reports forwarded to the DODIG providing the results of inquiry/investigations, and any backup documentation. IGAR case files contain Report of Inquiry/Investigation, requests for assistance or complaints, summaries documents, summaries of actions taken, interviews or verbatim testimony, other related investigative information from Federal, State, and local investigative agencies and departments.

IG inspections conducted and information accumulated by Headquarters Department of the Army (HQDA). Included are inspection reports and related information pertaining to annual general inspections (overall economy, efficiency, discipline, morale or readiness of a unit, organization or activity), procurement, special nuclear surety, intelligence oversight, and Federal recognition inspections conducted by HQDA.

Authority for maintenance of the system:

10 U.S.C. 3013, Secretary of the Army; Inspector General Act of 1978 (Pub.L. 95-452), as amended; 42 U.S.C. 1061 et seq., Victims Rights; DoD Directive 1030.1, Victim and Witness Assistance; Army Regulation 20-1, Inspector General Activities and Procedures; and E.O. 9397 (SSN).

Purpose(s):

To review and conduct law enforcement inquiries/investigations into allegations of wrongdoing/misconduct contained Defense Hotline Complaints, allegations contained in Inspector General Action Request of wrongdoing by Army personnel related to violations of laws, rules, or regulations, mismanagement, gross waste of funds, abuse of authority, and allegations of whistleblower reprisals.

To report the results to the Office of the Secretary of Defense and Army officials so that they may discharge their responsibilities and take corrective action, if needed.

To provide facts and evidence upon which to base prosecution.

To provide information upon which determinations may be made for individuals' suitability for various personnel action including but not limited to retention, promotion, assignment, and retirement in grade or selection for sensitive or critical positions in the Armed Forces or Federal Service.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To victims and witnesses of a crime for purposes of providing information, consistent with the requirements of the Victim and Witness Assistance Program, regarding the investigation and disposition of an offense.

To Federal, state, and local agencies having jurisdiction over the substance of the allegations or a related investigative interest.

The DoD ‘Blanket Routine Uses’ set forth at the beginning of the Army's compilation of systems of records notices also apply to this system.

Policies and practices for storing, retrieving, accessing, retaining, and disposing of records in the system:

Storage:

Paper records in file folders and on electronic storage media.

Retrievability:

By individual's full name, Social Security Number and/or other descriptive information cross-referenced to the case number.

Safeguards:

Access is limited to authorized individuals having need for the records in the performance of their official duties. Paper files and CD-ROMs are stored in containers with locks, located in a locked room, in a secured building with controlled access.

Computer indices are secured in locked rooms with limited/controlled access. Access to computerized information is controlled by a system of assigned passwords and available only to personnel responsible for system operation and maintenance.

Recipients of information for official use purposes are responsible for safeguarding the information within guidelines.

Retention and disposal:

Disposition pending (until NARA approves a disposition and retention schedule, treat as permanent).

System manager(s) and address:

Office of the Inspector General, ATTN: Chief, Information Management Division, 2511 Jefferson Davis Highway, Arlington, VA 22002-3912.

Notification procedure:

Individuals seeking to determine if information about themselves is contained in this system should address written inquiries to the Office of The Inspector General, ATTN: Records Release Office, 2511 Jefferson Davis Highway, Arlington, VA 22202-3912.

Individual should provide the full name, home address, telephone numbers and Army unit or activity to which assigned at the time of any Army Inspector General investigation, and a fee statement.

Requests submitted on behalf of other persons must include their written, notarized or certified authorization.

Record access procedures:

Individuals seeking to determine if information about themselves is contained in this system should address written inquiries to the Office of The Inspector General, ATTN: Records Release Office, 2511 Jefferson Davis Highway, Arlington, VA 22202-3912.

Individual should provide the full name, home address, telephone numbers and Army unit or activity to which assigned at the time of any Army Inspector General investigation, and a fee statement.

Requests submitted on behalf of other persons must include their written, notarized or certified authorization.

Contesting record procedures:

The Army's rules for accessing records, and for contesting contents and appealing initial agency determinations are contained in Army Regulation 340-21; 32 CFR part 505; or may be obtained from the system manager.

Record source categories:

From the individual, Army records and reports, and other sources providing or containing pertinent information.

Exemptions claimed for the system:

Investigative material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigative material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c) and (e) published in 32 CFR part 505. For additional information contact the system manager.

[FR Doc. 02-672 Filed 1-10-02; 8:45 am]

BILLING CODE 5001-08-P